DEPARTMENT OF HEALTH AND HUMAN SERVICES

Centers for Disease Control and Prevention

[30Day-19-0212]

Agency Forms Undergoing Paperwork Reduction Act Review

In accordance with the Paperwork Reduction Act of 1995, the Centers for Disease Control and Prevention (CDC) has submitted the information collection request titled National Hospital Care Survey to the Office of Management and Budget (OMB) for review and approval. CDC previously published a “Proposed Data Collection Submitted for Public Comment and Recommendations” notice on September 13, 2018 to obtain comments from the public and affected agencies. CDC received four comments related to the previous notice. This notice serves to allow an additional 30 days for public and affected agency comments.

CDC will accept all comments for this proposed information collection project. The Office of Management and Budget is particularly interested in comments that:

(a) Evaluate whether the proposed collection of information is necessary for the proper performance of the functions of the agency, including whether the information will have practical utility;

(b) Evaluate the accuracy of the agencies estimate of the burden of the proposed collection of information, including the validity of the methodology and assumptions used;

(c) Enhance the quality, utility, and clarity of the information to be collected;

(d) Minimize the burden of the collection of information on those who are to respond, including, through the use of appropriate automated, electronic, mechanical, or other technological collection techniques or other forms of information technology, e.g., permitting electronic submission of responses; and

(e) Assess information collection costs.

To request additional information on the proposed project or to obtain a copy of the information collection plan and instruments, call (404) 639-7570 or send an email to omb@cdc.gov. Direct written comments and/or suggestions regarding the items contained in this notice to the Attention: CDC Desk Officer, Office of Management and Budget, 725 17th Street NW., Washington, DC 20503 or by fax to (202) 395-5806. Provide written comments within 30 days of notice publication.

Proposed Project

National Hospital Care Survey (OMB Control No. 0920-0212, Exp. 01/31/2019)—Revision—National Center for Health Statistics (NCHS), Centers for Disease Control and Prevention (CDC).

Background and Brief Description

Section 306 of the Public Health Service (PHS) Act (42 U.S.C. 242k), as amended, authorizes that the Secretary of Health and Human Services (DHHS), acting through NCHS, shall collect statistics on the extent and nature of illness and disability of the population of the United States. This three-year clearance request for NHCS includes the collection of all inpatient and ambulatory Uniform Bill-04 (UB-04) claims data or electronic health record (EHR) data as well as the collection of hospital-level information via a questionnaire from a sample of 598 hospitals.

The NHCS collects data on patient care in hospital-based settings to describe patterns of health care delivery and utilization in the United States. NHCS hospital-based settings include inpatient, emergency department (ED), and outpatient department (OPD). The survey will provide hospital utilization statistics for the Nation. In addition, the NHCS will also be able to monitor national trends in substance use-related ED visits including opioid visits.

NHCS consists of a nationally representative sample of 598 hospitals. These hospitals are currently being recruited, and participating hospitals are submitting all of their inpatient and ambulatory care patient data in the form of electronic UB-04 administrative claims or EHR data. Currently, hospital-level data are collected through a questionnaire administered via a web portal.

This revision seeks approval to continue voluntary recruitment of hospitals in the sample for the NHCS; continue the collection of hospital-level data through an initial intake questionnaire and an Annual Hospital Interview for all sampled hospitals; continue the collection of electronic data on inpatient discharges as well as ED and OPD visits through the collection of EHR data, UB-04 claims, or a state file; continue collection of substance-involved ED visit data through the ED component; eliminate medical record abstraction of a sample of ED and OPD visits as part of the design of the survey; and postpone frame development for free standing ambulatory care facilities.

NHCS collects data items at the hospital, patient, inpatient discharge, and visit levels. Hospital-level data items include ownership, number of staffed beds, hospital service type, and EHR adoption. Patient-level data items are collected from electronic data and include basic demographic information, personal identifiers, name, address, social security number (if available), and medical record number (if available). Discharge-level data are collected through the UB-04 claims or EHR data and include admission and discharge dates, diagnoses, diagnostic services, and surgical and non-surgical procedures. Visit-level data are collected through EHR data and include reason for visit, diagnosis, procedures, medications, substances involved, and patient disposition.

NHCS data have distinct advantages. Through the collection of personal identifiers, NHCS data can be linked to outside datasets such as the National Death Index (OMB No. 0920-0215, Exp. Date 12/31/2019) to calculate post-discharge mortality. Additionally, NHCS offers unique opportunities to study opioid-involved health outcomes, such as repeat hospital encounters for opioid use and opioid-related mortality rates.

NHCS users include, but are not limited to, CDC, Congressional Research Office, Office of the Assistant Secretary for Planning and Evaluation (ASPE), National Institutes of Health, U.S. Food and Drug Administration (FDA), American Health Information Management Association (AHIMA), Centers for Medicare & Medicaid Services (CMS), Substance Abuse and Mental Health Services Administration (SAMHSA), Bureau of the Census, Office of National Drug Control Policy, state and local governments, and nonprofit organizations. Other users of these data include universities, research organizations, many in the private sector, foundations, and a variety of users in the media.

Data collected through NHCS are essential for evaluating the health status of the population, for the planning of programs and policy to improve health care delivery systems of the Nation, for studying morbidity trends, and for research activities in the health field. Historically, data have been used extensively in the development and monitoring of goals for the Year 2000, 2010, and 2020 Healthy People Objectives. There is no cost to respondents other than their time to participate. The total annualized burden is 7,080 hours.

Estimated Annualized Burden Hours
Type of respondents | Form name | Number of respondents | Number of responses per respondent | Average burden per response (in hours)
Hospital Director of Health Information Management (DHIM) or Director of Health Information Technology (DHIT) | Initial Hospital Intake Questionnaire | 150 | 1 | 1
Hospital Chief Executive Officer (CEO)/Chief Financial Officer (CFO) | Recruitment Survey Presentation | 150 | 1 | 1
Hospital DHIM or DHIT | Prepare and transmit UB-04 or State File for Inpatient and Ambulatory | 399 | 12 | 1
Hospital DHIM or DHIT | Prepare and transmit EHR for Inpatient and Ambulatory | 199 | 4 | 1
Hospital CEO/CFO | Annual Hospital Interview | 598 | 1 | 2

Jeffrey M. Zirger,
Acting Lead, Information Collection Review Office, Office of Scientific Integrity, Office of Science, Centers for Disease Control and Prevention.

[FR Doc. 2019-00214 Filed 1-28-19; 8:45 am]

BILLING CODE 4163-18-P